DEPARTMENT OF THE INTERIOR

Bureau of Land Management

[UT030-4310-DS]

Notice of Availability of Draft Monument Management Plan Amendment and Draft Rangeland Health Environmental Impact Statement for the Grand Staircase-Escalante National Monument Planning Area in Kane and Garfield Counties, UT and Coconino County, AZ

AGENCY: Bureau of Land Management, Interior.

ACTION: Notice of availability.

SUMMARY: In accordance with the National Environmental Policy Act of 1969 (NEPA, 42 U.S.C. 4321 et seq.) and the Federal Land Policy and Management Act of 1976 (FLPMA, 43 U.S.C. 1701 et seq.), the Bureau of Land Management (BLM) has prepared Draft Monument Management Plan Amendment and Draft Rangeland Health Environmental Impact Statement (DEIS) (hereafter referred to as the ‘Draft Rangeland Health Amendment’) and by this notice is announcing the opening of the comment period.

DATES: To ensure that comments will be considered, the BLM must receive written comments on the Draft Rangeland Health Amendment within 90 days following the date the Environmental Protection Agency publishes the Notice of Availability in the Federal Register. The BLM will announce future meetings or hearings and any other public involvement activities at least 15 days in advance through public notices, media news releases, and/or mailings.

ADDRESSES: You may submit comments by any of the following methods:

• E-mail: UT_GSENM_NEPA@blm.gov.

• Fax: (435) 644-4350.

• Mail: Draft Rangeland Health Amendment Comments—Attention Paul Chapman, Grand Staircase-Escalante National Monument, Bureau of Land Management, 190 East Center Street, Kanab, Utah 84741.

Copies of the Draft Rangeland Health Amendment are available in the BLM Grand Staircase-Escalante National Monument main office at the above address; the BLM Utah State Office in Salt Lake City; and may be viewed and downloaded in PDF format at http://www.blm.gov/ut/st/en/prog/planning/existing_plans.html. Please note that public comments and information submitted including names, street addresses, and email addresses of respondents will be available for public review and disclosure at the above address during regular business hours (8 a.m. to 4 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: For further information and/or to have your name added to the planning project mailing list, contact Paul Chapman, Grand Staircase-Escalante National Monument, Bureau of Land Management, 190 East Center Street, Kanab, Utah 84741, telephone: (435) 644-4309, or e-mail: UT_GSENM_NEPA@blm.gov.

SUPPLEMENTARY INFORMATION: The Escalante, Paria, Vermilion and Zion Management Framework Plans (MFPs) provided the planning analysis baseline for this Draft EIS. This baseline will be carried forward as the Rangeland Health Amendment into the Grand Staircase-Escalante National Monument Management Plan (MMP) through a Plan Amendment. Once approved, the Record of Decision (ROD) for the Rangeland Health Amendment will modify or replace all existing livestock management determinations for the planning area.

The planning area includes all of the public land grazing allotments managed or administered by the Grand Staircase-Escalante National Monument in Kane and Garfield Counties, Utah and Coconino County, Arizona. The planning area encompasses public lands currently managed under the Grand Staircase-Escalante National MMP, and portions of lands managed or administered under the Escalante, Paria, Vermilion, and Zion MFPs. Under Public Law 92-593, the Grand Staircase-Escalante National Monument administers grazing on a portion of the Glen Canyon National Recreation Area, which is managed by the National Park Service under the Glen Canyon National Recreation Area General Management Plan. The planning area includes approximately 2.2 million acres of lands on which BLM administers livestock grazing in the three county areas, including approximately 250,000 acres in the Glen Canyon National Recreation Area.

The Draft Rangeland Health Amendment analyzes five alternatives. The alternatives present differing management balances between the various resources and uses, and vary in both context and intensity. The alternatives are:

Alternative A (No Action): The current level of resource use and protection would be maintained. Grazing permits would be renewed with existing Terms and Conditions.

Alternative B: Rangeland Health Standards, with minimal stocking adjustments and improved livestock distribution and management, would be emphasized. Rangeland restoration and the future installation of structural improvements would be assessed. Grazing permits would be renewed with modified Terms and Conditions consistent with the actions proposed in this alternative.

Alternative C (Preferred Alternative): Rangeland Health Standards would be achieved over the life of the MMP by making allotment specific modifications to grazing management. These management changes would include distribution of adjustments, stocking adjustments, and temporary suspensions on less than 10% of allotments when Rangeland Health Standards assessments and monitoring indicate such actions are needed to meet resource objectives. This alternative includes the range restoration and future structural improvements assessed under Alternative B. Grazing permits would be renewed with modified Terms and Conditions consistent with the actions proposed in this alternative.

Alternative D: Rangeland Health Standards would be achieved over the life of the MMP by making modifications to grazing management including temporary grazing suspensions on allotments which fail to meet Utah BLM's Rangeland Health Standards for upland soils or desired specifics. Range restoration and the installation of structural range improvements would be assessed under this alternative, but to a lesser degree than in Alternatives B and C. Grazing permits would be renewed with modified Terms and Conditions consistent with the actions proposed in this alternative.

Alternative E: Rangeland Health Standards would be achieved over the life of the MMP by making modifications to grazing management including temporary grazing suspensions on allotments which fail Utah BLM's Rangeland Health Standards for upland soils, desired species, and riparian/wetland functionality. This alternative proposes an emphasis on vegetation restoration activity without structural range improvements. Grazing permits would be renewed with modified Terms and Conditions consistent with the actions proposed in this alternative.

Potentially impacted resources and conditions include: Livestock management, compliance with Standards and Guidelines for Rangeland Health, socio-economics, cultural resources, and recreation.

Jeff Rawson,
Associate Utah State Director.

[FR Doc. E8-23958 Filed 10-9-08; 8:45 am]

BILLING CODE 4310-DQ-P